DEPARTMENT OF COMMERCE

National Oceanic and Atmospheric Administration

15 CFR Part 922

Revisions of Boundaries for Flower Garden Banks National Marine Sanctuary; Intent To Prepare Draft Environmental Impact Statement

AGENCY: Office of National Marine Sanctuaries (ONMS), National Ocean Service (NOS), National Oceanic and Atmospheric Administration (NOAA), Department of Commerce (DOC).

ACTION: Notice of intent to revise boundaries; intent to prepare environmental impact statement.

SUMMARY: In accordance with section 304(e) of the National Marine Sanctuaries Act, as amended, (NMSA), the Office of National Marine Sanctuaries (ONMS) of the National Oceanic and Atmospheric Administration (NOAA) is initiating a review of Flower Garden Banks National Marine Sanctuary (FGBNMS or Sanctuary) boundaries, based on the recommendation contained within the Sanctuary Expansion Action Plan of the FGBNMS Management Plan (April 2012). The review process, as required by the NMSA, will be conducted concurrently with a public process under the National Environmental Policy Act (NEPA). This document also informs the public that NOAA will coordinate its responsibilities under section 106 of the National Historic Preservation Act (NHPA) with its ongoing NEPA process, including the use of NEPA documents and public and stakeholder meetings to also meet the requirements of section 106. The public scoping process is intended to solicit information and comments on the range and significance of issues related to the expansion of the FGBNMS boundaries. The results of this scoping process will assist NOAA in formulating alternatives for the draft environmental impact statement for the proposed revised sanctuary boundaries.

DATES: Comments must be received by April 6, 2015. Public hearings will be held as detailed below:

(1) New Orleans, LA

Date: Tuesday, March 3, 2015

Location: Hilton New Orleans Airport, Cocodrie Room

Address: 901 Airline Drive, Kenner, LA 70062

Time: 6:00-8:00 p.m.

(2) Houston, TX

Date: Thursday, March 5, 2015

Location: Bayland Community Center

Address: 6400 Bissonnet Street, Houston, TX 77074

Time: 6:00-8:00 p.m.

(3) Galveston, TX

Date: Wednesday, March 11, 2015

Location: Flower Garden Banks NMS Office, NOAA Galveston Laboratory

Address: 4700 Avenue U, Building 216, Galveston, TX 77551

Time: 6:00-8:00 p.m.

ADDRESSES: Comments may be submitted by any one of the following methods:

• Electronic Submissions: Submit all electronic public comments via the Federal e-Rulemaking Portal. Go to www.regulations.gov/#!docketDetail;D=NOAA-NOS-2014-0154, click the “Comment Now!” icon, complete the required fields and enter or attach your comments.

• Mail: George Schmahl, Sanctuary Superintendent, Flower Garden Banks National Marine Sanctuary, 4700 Avenue U, Bldg. 216, Galveston, TX 77551.

Instructions:Comments sent by any other method, to any other address or individual, or received after the end of the comment period, may not be considered by NOAA. All comments received are a part of the public record and will generally be posted for public viewing on www.regulations.gov without change. All personal identifying information (e.g., name, address, etc.), confidential business information, or otherwise sensitive information submitted voluntarily by the sender will be publicly accessible. ONMS will accept anonymous comments (enter “N/A” in the required fields if you wish to remain anonymous). Attachments to electronic comments will be accepted in Microsoft Word, Excel, or Adobe PDF file formats only.

FOR FURTHER INFORMATION CONTACT: Kelly Drinnen, 409-621-5151 Ext. 105, fgbexpansion@noaa.gov.

SUPPLEMENTARY INFORMATION:

Background Information

I. Background

The National Marine Sanctuaries Act (NMSA) (16 U.S.C. 1431 et seq.) authorizes the Secretary of Commerce (Secretary) to designate and protect as a national marine sanctuaries areas of the marine environment that are of special national significance due to their conservation, recreational, ecological, historical, scientific, cultural, archeological, educational, or esthetic qualities. Day-to-day management of national marine sanctuaries has been delegated by the Secretary to the ONMS. The primary objective of the NMSA is to protect the biological and cultural resources of the sanctuary system, such as coral reefs, marine animals, historical shipwrecks, historic structures, and archaeological sites.

Flower Garden Banks National Marine Sanctuary was designated on January 17, 1992 (Pub. L. 102-251, Title I, Sec. 101). At that time, the sanctuary consisted of two areas known as East and West Flower Garden Banks (56 FR 63634). In 1996, Congress added Stetson Bank to the sanctuary (Pub. L. 104-283). FGBNMS regulations were first published on December 5, 1991 (56 FR 63634) and became effective on January 18, 1994 (58 FR 65664). Current FGBNMS regulations can be found at 15 CFR part 922, subpart L.

FGBNMS is located in the northwestern Gulf of Mexico. The banks'salt domes range in depth from 55 feet to over 500 feet, providing conditions supporting several distinct habitats (including the northern-most coral reefs in the continental United States) and essential habitat for a variety of marine species. The combination of location and geology makes the sanctuary an extremely productive and nationally significant ecosystem.

II. Need for Action

NOAA published a revised FGBNMS Management Plan in April 2012, which described the need to protect additional sensitive biological resources and geological features associated with reefs and banks in the northwestern Gulf of Mexico. The expansion of sanctuary protection for certain critical areas would address concerns about impacts of anchoring, safe access by fishers and divers, damage as a result of unregulated activities, and the need to protect unique features in these areas.

Based on six years of input from the public and the FGBNMS Advisory Council, NOAA developed a Sanctuary Expansion Action Plan as part of the 2012 management plan revision. The action plan's primary purpose was to ”evaluate and expand, as appropriate, the network of protected areas within the sanctuary to include five to twelve additional reefs and banks, and modify the boundary of East and West Flower Garden and Stetson Banks to include critical adjacent habitats.” This proposal was developed in particular by the Sanctuary Advisory Council's (SAC) boundary expansion working group, which was comprised of researchers, oil and gas production representatives, recreational divers, Bureau of Ocean Energy Management (BOEM) representatives, and ONMS staff. The working group met initially in February 2007, and then periodically over the course of 10 months, to discuss the concept in detail. The working group employed a consensus driven, constituent-based process to address the concept of boundary expansion. All participants discussed a variety of issues, considerations, priorities and concerns for each step of the process.

The following recommendation was developed by the working group and adopted as a recommendation to NOAA by the SAC:

Expand the sanctuary, with boundaries based on a critical habitat area and a 500-meter buffer zone, by modifying the existing boundaries of East and West Flower Garden Banks and Stetson Bank, and adding Horseshoe Bank, McGrail Bank, Geyer Bank, Bright Bank, Sonnier Bank, Alderdice Bank, MacNeil Bank, Rankin Bank, and 28 Fathom Bank.

It is important to note that certain activities related to oil and gas exploration and development are already prohibited within a significant portion of each of the banks recommended for expansion, as these areas have been designated “no activity zones” by BOEM under lease stipulations that have been in place since 1973. (These restrictions are contained within “Notice to Lessees” (NTL) No. 2009-G39 for “Biologically-Sensitive Underwater Features and Areas”, for the Central and Western planning areas of the OCS in the Gulf of Mexico region.) NOAA has now decided that the SAC's recommendation should be further explored through a public review process. Additional information on the SAC recommendation can be found in the FGBNMS Sanctuary Expansion Action Plan at the following link: http://flowergarden.noaa.gov/document_library/mgmtdocs/fmp2012/fmpexpansionactionplan.pdfith.

In accordance Section 304(e) of the National Marine Sanctuaries Act, as amended (NMSA), 16 U.S.C. 1431 et seq., NOAA is initiating a review of the FGBNMS boundaries to “evaluate and expand, as appropriate” the network of protected areas within the sanctuary. The action under consideration will evaluate options for the expansion of the sanctuary by incorporating selected reefs and banks in the northwestern Gulf of Mexico for their long-term protection and management. An environmental impact statement will describe the various reefs and banks to be considered, alternative scenarios for incorporating additional areas, and NOAA's preferred alternative. In addition, NOAA will analyze various regulatory scenarios for any new potential sanctuary areas, as well as for the existing sanctuary as described in the 2012 final management plan.

III. Process

The process for considering the expansion of FGBNMS is composed of four primary stages:

1. Information collection and characterization, including the consideration of public comment;

2. Preparation and release of a draft environmental impact statement (DEIS) that identifies boundary expansion alternatives, as well as a notice of proposed rulemaking (NPRM) to amend the sanctuary regulations to reflect any new boundary if proposed;

3. Public review and comment on the DEIS and NPRM;

4. Preparation and release of a final environmental impact statement, including a response to public comments, with a final rule if appropriate.

With this document, NOAA is opening a public comment period to:

1. Gather information and public comments from individuals, organizations, and government agencies on whether FGBNMS should expand its boundary, suggestions for the extent of an expanded boundary, and the potential effects of a boundary expansion; and

2. Help determine the scope of issues to be addressed in the preparation of an environmental analysis under NEPA.

[INFORMATION ON DATES AND LOCATIONS FOR PUBLIC MEETINGS WILL BE ADDED LATER].

IV. Consultation Under Section 106 of the National Historic Preservation Act

This document confirms that NOAA will fulfill its responsibility under section 106 of the National Historic Preservation Act (NHPA, 16 U.S.C. 470) through the ongoing NEPA process, pursuant to 36 CFR 800.8(a) including the use of NEPA documents and public and stakeholder meetings to meet the section 106 requirements. The NHPA specifically applies to any agency undertaking that may affect historic properties. Pursuant to 36 CFR 800.16(1)(1), historic properties includes any prehistoric or historic district, site, building, structure or object included in, or eligible for inclusion in, the National Register of Historic Places maintained by the Secretary of the Interior. The term includes artifacts, records, and remains that are related to and located within such properties. The term includes properties of traditional religious and cultural importance to an Indian tribe or Native Hawaiian organization and that meet the National Register criteria. In fulfilling its responsibility under the NHPA and NEPA, NOAA intends to identify consulting parties; identify historic properties and assess the effects of the undertaking on such properties; initiate formal consultation with the State Historic Preservation Officer, the Advisory Council of Historic Preservation, and other consulting parties; involve the public in accordance with NOAA's NEPA procedures, and develop in consultation with identified consulting parties alternatives and proposed measures that might avoid, minimize or mitigate any adverse effects on historic properties and describe them in any environmental assessment or draft environmental impact statement.

V. Consultation Under Section 304(a)(5) of the National Marine Sanctuaries Act

This document confirms that NOAA will fulfill its responsibility under section 304(a)(5) of the National Marine Sanctuaries Act (NMSA, 16 U.S.C. 1431 et seq.), which states that the Gulf of Mexico Fishery Management Council (GMFMC) should be provided with the opportunity to prepare draft regulations for fishing within Federal waters, if NOAA pursues the addition of areas within the Gulf of Mexico to the sanctuary and if regulations regarding fishing are needed. The NMSA further declares that draft regulations prepared by the GMFMC, or a GMFMC determination that regulations are not necessary, shall be accepted and issued as proposed regulations unless the GMFMC's action fails to fulfill the purposes and policies of the Act and the goals and objectives of the proposed designation. If the GMFMC declines to make a determination with respect to the need for regulations, makes a determination that is rejected by the Secretary of Commerce, or fails to prepare draft regulations in a timely manner, then NOAA shall prepare fishing regulations.

Authority: 16 U.S.C. 1431 et seq.

Dated: January 15, 2015.
Daniel J. Basta,
Director for the Office of National Marine Sanctuaries.

[FR Doc. 2015-01949 Filed 2-2-15; 8:45 am]

BILLING CODE 3510-NK-P